DEPARTMENT OF AGRICULTURE

Forest Service

Bugtown Gulch Mountain Pine Beetle and Fuels Project Hell Canyon Ranger District, Black Hills National Forest Custer, South Dakota

AGENCY: Forest Service, USDA.

ACTION: Revised notice of intent to prepare an Environmental Impact Statement (EIS).

SUMMARY: On March 1, 2005, the Forest Service published a Notice of Intent to prepare an environmental impact statement (EIS) for the Bugtown Gulch Mountain Pine Beetle and Fuels Project. This is an authorized project under Section 102(a)(4) of the Healthy Forest Restoration Act of 2003. The Forest Service is modifying the proposed action and decision to be made, name and address of the Responsible Official, the expected dates for filing the draft and final EIS, the significant issues to be addressed and has developed an alternative to the proposed action. The proposed action is modified to include 3 site specific, non-significant Forest Plan amendments and the decision to be made will include whether or not to approve those amendments. The original NOI stated that a non-significant Forest Plan amendment related to big game habitat capability values as modeled by the HABCAP model may be part of the decision. Further analysis determined that amendments for big game HABCAP values would be necessary in both management areas 5.1 and 5.4. In addition, a third amendment to allow a short term reduction in mature, dense habitat within goshawk post fledging area habitat is included as part of the proposed action. The responsible official was listed as the Hell Canyon District Ranger in the March 1, 2005 NOI. Due to the inclusion of Forest Plan amendments to the proposal, the responsible official will be the Forest Supervisor. The draft and final EISs are expected to be filed in August, 2005 and December, 2005, respectively.

The original NOI listed several preliminary issues. Further analysis determined that there are 3 significant issues to be addressed with this project and they are: (1) The mountain pine beetle epidemic, (2) fuels and fire risks, and (3) wildlife habitat. One alternative to the proposed action has been developed to address public input concerning post-treatment diversity on the project area landscape. This alternative differs from the proposal by deferring approximately 1,300 acres from all proposed treatments. This alternative does not include a Forest Plan amendment to lower the big game HABCAP values in management area 5.1 as discussed above for the proposed action. However, it does include Forest Plan amendments to lower big game HABCAP values in management area 5.4 and to allow for a short term reduction of dense, mature stands in goshawk post-fledging area habitat as in the proposed action.

DATES: Comments concerning this revision should be received in writing by July 29, 2005. Comments submitted by individuals, groups or other agencies in response to previous scoping efforts for this project have been incorporated into the analysis and there is no need to resubmit comments in response to this revised NOI. The draft environmental impact statement is expected to be filed in August 2005 and the final environmental impact statement is expected to be filed in December 2005. Another formal opportunity to comment will be provided following completion of the Draft EIS.

ADDRESSES: Send written comments concerning this revision to Michael D. Lloyd, District Ranger, Black Hills National Forest, Hell Canyon Ranger District, 330 Mount Rushmore Road, Custer, South Dakota 57730. Telephone number (605) 673-4853. Fax number: (605) 673-5461. Electronic comments must be readable in Word, Rich Text or pdf formats and must contain “Bugtown Gulch” in the subject line. Electronic comments may be e-mailed to comments-rocky-mountain-black-hills-hell-canyon@fs.fed.us.

FOR FURTHER INFORMATION CONTACT: Patricia Hudson, District NEPA Coordinator, at (605) 673-4853, Hell Canyon Ranger District, Black Hills National Forest, 330 Mount Rushmore Road, Custer, SD 57730.

SUPPLEMENTARY INFORMATION: Further information about the proposal can be found in the original notice of intent published in the Federal Register, Vol. 70, No. 39, pp. 9914-9916, on March 1, 2005.

Responsible Official

The responsible official for this project is Craig Bobzien, Forest Supervisor, Black Hills National Forest, 25041 North Highway 16, Custer, SD 57730-7239.

Nature of Decision To Be Made

The decision to be made is whether or not to implement the proposed action or alternatives at this time and whether to amend the Forest Plan to allow for implementation of this project.

Early Notice of Importance of Public Participation in Subsequent Environmental Review: A draft environmental impact statement will be prepared for comment. The comment period on the draft environmental impact statement will be 45 days from the date the Environmental Protection Agency publishes the notice of availability in the Federal Register.

The Forest Service believes, at this early stage, it is important to give reviewers notice of several court rulings related to public participation in the environmental review process. First, reviewers of draft environmental impact statements must structure their participation in the environmental review of the proposal so that it is meaningful and alerts an agency to the reviewer's positions and contentions. Vermont Yankee Nuclear Power Corp. v. NRDC, 435 U.S. 519, 553 (1978). Also, environmental objections that could be raised at the draft environmental impact statement stage but that are not raised until after completion of the final environmental impact statement may be waived or dismissed by the courts. City of Angoon v. Hodel, 803 F.2d 1016, 1022 (9th Cir. 1985) and Wisconsin Heritages, Inc. v. Harris, 490 F. Supp. 1334, 1338 (E.D. Wis. 1980). Because of these court rulings, it is very important that those interested in this proposed action participate by the close of the 45 day comment period so that substantive comments and objections are made available to the Forest Service at a time when it can meaningfully consider them and respond to them in the final environmental impact statement.

To assist the Forest Service in identifying and considering issues and concerns on the proposed action, comments on the draft environmental impact statement should be as specific as possible. It is also helpful if comments refer to specific pages or chapters of the draft statement. Comments may also address the adequacy of the draft environmental impact statement or the merits of the alternatives formulated and discussed in the statement. Reviewers may wish to refer to the Council on Environmental Quality Regulations for implementing the procedural provisions of the National Environmental Policy Act at 40 CFR 1503.3 in addressing these points.

Comments received, including the names and addresses of those who comment, will be considered part of the public record on this proposal and will be available for public inspection.

(Authority: 40 CFR 1501.7 and 1508.22; Forest Service Handbook 1909.15, Section 21).

Dated: July 5, 2005.
Marisue Hilliard,
Acting Forest Supervisor.

[FR Doc. 05-13521 Filed 7-8-05; 8:45 am]

BILLING CODE 3410-11-M